DEPARTMENT OF ENERGY

Federal Energy Regulatory Commission

[Project No. 3730-004]

Henwood Associates, Inc.; Salmon Creek Hydroelectric Company; Notice of Transfer of Exemption

1. By letter filed April 18, 2013, Henwood Associates, Inc. and Salmon Creek Hydroelectric Company informed the Commission that the exemption from licensing for the Salmon Creek Hydroelectric Project, FERC No. 3730, originally issued August 10, 1981,¹ has been transferred to Salmon Creek Hydroelectric Company. The project is located on Salmon and Sardine Creeks in Sierra County, California. The transfer of an exemption does not require Commission approval.

¹ 16 FERC ¶ 62,209, Order Granting Exemption from Licensing of a Small Hydroelectric Project of 5 Megawatts or Less and Dismissing Application for Preliminary Permit.

2. Mr. Mark Henwood, Salmon Creek Hydroelectric Company, located at 7311 Greenhaven Drive, Suite 275, Sacramento, CA 95831, is now the exemptee of the Salmon Creek Hydroelectric Project, FERC No. 3730.

Dated: April 25, 2013.
Kimberly D. Bose,
Secretary.

[FR Doc. 2013-10262 Filed 4-30-13; 8:45 am]

BILLING CODE 6717-01-P